DEPARTMENT OF THE INTERIOR

Bureau of Land Management

[CA-180-06-1010-JK]

Emergency Closure and Segregation of Federal Lands in Amador, Placer, Nevada and Tuolumne Counties, CA

AGENCY: Bureau of Land Management, Interior.

ACTION: Emergency closure and segregation of six abandoned mine land sites in California.

SUMMARY: Notice is hereby given that all BLM-administered public lands at the Pond, Poore, Gold Run, Poison Lake, Davis and Longfellow abandoned mine land (AML) sites located in Amador, Placer, Nevada and Tuolumne Counties, California are closed to all forms of entry by the public, including mineral entry under the 1872 Mining Law. This closure is necessary to protect the public from hazards associated with these sites and to enable the remediation of the sites pursuant to the Comprehensive Environmental Response, Compensation and Liability Act (CERCLA). Sampling of water and sediment at these sites indicates substantial amounts of mercury and/or arsenic are present in sluice tunnel floor sediments and in mill tailings. Shafts and tunnel inlets/outlets are also present at these sites. These conditions represent significant health and physical safety hazards to the public. The closure and segregation of these lands from all forms of land and mineral entry is also needed to prevent the location of any new mining claims on these lands pending completion of necessary removal and remediation actions. This closure will remain in effect until the Folsom Field Manager determines it is no longer needed. This closure does not apply to authorized employees and contractors.

DATES: Effective Date: This closure is effective immediately and will be verified upon publication in the Federal Register. It will remain in effect until the Manager, Folsom Field Office, determines it is no longer needed.

FOR FURTHER INFORMATION CONTACT: Tim Carroll, Geologist, Bureau of Land Management, 63 Natoma St., Folsom, CA 95630, Telephone (916) 985-4474.

SUPPLEMENTARY INFORMATION: The authority for the closure is 43 CFR 2300.0-3 and 8364.1. Any person who fails to comply with this closure may be subject to the penalties provided in 43 CFR 8360.0-7 and are subject to arrest or fine not to exceed $1,000 or by imprisonment not to exceed 12 months. This order applies to all forms of entry, with two exceptions: (1) Any emergency, law enforcement or other BLM vehicle while being used for emergency or administrative purposes, and (2) any vehicle whose use is expressly authorized by the BLM Field Manager to enter public lands at these sites.

The public lands affected by this closure order are T. 13 N., R. 10 E., sec. 3, lots 14, 17 and 18 (Pond); T. 16 N., R. 9 E., sec. 24, lots 3, 4 and 5, secs. 24 and 25, lot 45 (Poore); T. 15 N., R. 10 E., sec, 9, lots 3-5, 7-9, MS 1483 and SW¼SE¼, sec. 10, lots 1-4, MS 1482 and 1483, sec. 16, NE¼ (Gold Run); T. 5 N., R. 10 E., sec. 32, E½SE¼SE¼ (Poison Lake); T. 17 N., R. 9 E., sec. 32, lots 5, 7-10 (Davis); T. 1 S., R. 16 E., sec. 30, lot 21 (Longfellow); all townships in the Mount Diablo Base and Meridian, California.

The public lands affected by the restriction order constitute approximately 584.11 acres of land. These lands are depicted on maps in the Folsom Field Office where copies of these maps may be obtained.

January 30, 2006.
D.K. Swickard,
Manager, BLM Folsom Field Office.

This document was received at the Office of the Federal Register on August 4, 2006.

[FR Doc. E6-12932 Filed 8-8-06; 8:45 am]

BILLING CODE 4310-40-P